DEPARTMENT OF TRANSPORTATION

Federal Aviation Administration

14 CFR Part 39

[Docket No. FAA-2005-20440; Directorate Identifier 2005-CE-05-AD]

RIN 2120-AA64

Airworthiness Directives; Aero Advantage ADV200 Series (Part Numbers ADVPL211CC and ADVPL212CW) Vacuum Pumps

AGENCY: Federal Aviation Administration (FAA), DOT.

ACTION: Notice of proposed rulemaking (NPRM).

SUMMARY: The FAA proposes to adopt a new airworthiness directive (AD) for all airplanes equipped with Aero Advantage ADV200 series (part numbers ADVPL211CC and ADVPL212CW) vacuum pumps installed under supplemental type certificate number SA10126SC, through field approval, or other methods. This proposed AD would require you to remove any affected vacuum pump and related monitor system, remove the applicable airplane flight manual supplement (AFMS) and placard, and install an FAA-approved vacuum pump other than the affected part numbers. This proposed AD results from several reports of pump chamber failure. We are issuing this proposed AD to correct problems with the vacuum pump before failure or malfunction during instrument flight rules (IFR) flight that can lead to loss of flight instruments critical for flight. The loss of flight instruments could cause pilot disorientation and loss of control of the aircraft.

DATES: We must receive any comments on this proposed AD by July 11, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To view the comments to this proposed AD, go to http://dms.dot.gov. The docket number is FAA-2005-20440; Directorate Identifier 2005-CE-05-AD.

FOR FURTHER INFORMATION CONTACT: Peter Hakala, Aerospace Engineer, Special Certification Office, Rotorcraft Directorate, FAA, 2601 Meacham Boulevard, Fort Worth, Texas 76193-0190; telephone: (817) 222-5145; facsimile: (817) 222-5785.

SUPPLEMENTARY INFORMATION:

Comments Invited

How do I comment on this proposed AD? We invite you to submit any written relevant data, views, or arguments regarding this proposal. Send your comments to an address listed under ADDRESSES. Include the docket number, “FAA-2005-20440; Directorate Identifier 2005-CE-05-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20440; Directorate Identifier 2005-CE-05-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? For the Aero Advantage ADV200 series (part numbers (P/Ns) ADVPL211CC and ADVPL212CW) vacuum pumps, FAA has received reports of 14 single shaft failures and 11 dual shaft failures in a population of 285 pumps. Nine of the failures occurred with less than 100 hours time-in-service. The failures are concentrated on airplanes with the Lycoming Engines IO-540 series engines.

In May 2004, Aero Advantage reported to FAA that they had stopped production and sales of the pumps and that they were quitting the business.

The Aero Advantage ADV200 series vacuum pumps are installed under supplemental type certificate number SA10126SC, through field approval, or other methods. The installation of the vacuum pump includes a monitor system, airplane flight manual supplement (AFMS), and a placard.

What is the potential impact if FAA took no action? Failure or malfunction of the vacuum pump during instrument flight rules (IFR) flight can lead to loss of flight instruments critical for flight. The loss of flight instruments could cause pilot disorientation and loss of control of the aircraft.

FAA's Determination and Requirements of This Proposed AD

What has FAA decided? We have evaluated all pertinent information and identified an unsafe condition that is likely to exist or develop on other products of this same type design. For this reason, we are proposing AD action.

What would this proposed AD require? This proposed AD would require you to remove any Aero Advantage ADV200 series (P/Ns ADVPL211CC and ADVPL212CW) vacuum pump, the related monitor system, the applicable AFMS and related placard installed under supplemental type certificate number SA10126SC, through field approval, or other methods. It would also require you to install an FAA-approved vacuum pump other than the affected part numbers.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD could affect 285 airplanes in the U.S. registry.

What would be the cost impact of this proposed AD on owners/operators of the affected airplanes? We estimate the following costs to do this proposed removal and replacement. We have no way of determining the exact number of airplanes that will need this removal and replacement:

Labor cost | Average parts cost | Total cost per airplane
3 work hours × $65 = $195 | $400 | $595

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20440; Directorate Identifier 2005-CE-05-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Aero Advantage: Docket No. FAA-2005-20440; Directorate Identifier 2005-CE-05-AD.

When Is the Last Date I Can Submit Comments on This Proposed AD?

(a) We must receive comments on this proposed airworthiness directive (AD) by July 11, 2005.

What Other ADs Are Affected by This Action?

(b) None.

What Airplanes Are Affected by This AD?

(c) This AD affects ADV200 series (part numbers (P/Ns) ADVPL211CC and ADVPL212CW) vacuum pumps installed on, but not limited to, the following aircraft that are certificated in any category. These vacuum pumps can be installed under supplemental type certificate number SA10126SC, through field approval, or other methods:

Make | Model
Alexandria Aircraft, LLC | 14-19, 14-19-2, 14-19-3, 17-30, 17-31, 17-31TC, 17-30A, 17-31A, and 17-31ATC.
Alliance Aircraft Group, LLC | H-295 (USAF U10D).
American Champion Aircraft Corp | 7AC, 7ECA, 7GC, 7GCA, 7GCAA, 7GCB, 7GCBC, 7HC, 7KC, 7KCAB, 8GCBC, and 8KCAB.
Cessna Aircraft Company, The | 172, 172A, 172B, 172C, 172D, 172E, 172F, 172G, 172H, 172I, 172K, 172L, 172M, 172N, 172P, 172Q, 182, 182A, 182B, 182C, 182D, 182E, 182F, 182G, 182H, 182J, 182K, 182L, 182M, 182N, 182P, 182Q, 182R, R182, T182, TR182, 172RG, R172E, R172F, R172H, R172J, 152, A152, 210, 210-5 (205), 210-5A (205A), 210A, 210B, 210C, 210D, 210E, 210F, 210G, 210H, 210J, 210K, 210L, 210M, 210N, P210N, T210G, T210H, T210M, T210N, T210R, 185, 185A, 185B, 185C, 185D, 185E, 180, 180A, 180B, 180C, 180D, 180E, 180F, 180G, 180H, 180J, 120, 140, 170, 170A, 170B, 177, 177A, 177B, 207, 207A, T207, T207A, 177RG, 206, P206, P206A, P206B, P206C, P206D, P206E, TP206A, TP206B, TP206C, TP206D, TP206E, TU206A, TU206B, TU206C, TU206D, TU206E, TU206F, TU206G, U206, U206A, U206B, U206C, U206D, U206E, U206F, U206G, 188, 188A, 188B, A188, A188A, and A188B.
Commander Aircraft Company | 112, 112B, 112TC, 114, and 114A.
Dynac Aerospace Corporation | Aero Commander 100.
Global Amphibians, LLC | Lake LA-4-200, Lake Model 250.
Maule Aerospace Technology, Inc | M-4-210, M-4-220, M-5-180C, M-5-200, M-5-235C, M-6-180, and M-6-235.
Mooney Aircraft Corporation | M20, M20A, M20B, M20C, M20D, M20E, M20F, M20G, M20J, M20K, M20M, and M22.
Navion Aircraft Company, Ltd | Navion G and Navion H.
Piper Aircraft, Inc., The New | PA-23, PA-23-160, PA-23-235, PA-23-250 (Navy UO-1), PA-E23-250, PA-24, PA-24-250, PA-24-260, PA-18, PA-18-105 (Special), PA-18-135, PA-18-150, PA-20-115, PA-20-135, PA-22-108, PA-22-135, PA-22-150, PA-22-160, PA-25, PA-25-235, PA-25-260, PA-28-140, PA-28-150, PA-28-151, PA-28-160, PA-28-161, PA-28-180, PA-28-181, PA-28-201T, PA-28-235, PA-28-236, PA-28R-180, PA-28R-200, PA-28R-201, PA-28R-201T, PA-28RT-201, PA-28RT-201T, PA-25, PA-25-235, PA-25-260, J5A-80, J5A (Army L-4F), J5B (Army L-4G), J5C, PA-12, PA-36-285, PA-36-300, PA-36-375, PA-38-112, PA-30, PA-39, PA-40, PA-31, PA-31-300, PA-31-325, PA-31-350, PA-32-260, PA-32-300, PA-32-301, PA-32-301T, PA-32R-300, PA-32R-301 (HP), PA-32R-301T, PA-32RT-300T, PA-31P, and PA-36-300.
Raytheon Aircraft Company | 35-33, 35-A33, 35-B33, 35-C33, 35-C33A, 36, A36, A36TC, B36TC, E33, E33A, E33C, F33, F33A, F33C, G33, H35, J35, V35, V35A, V35B, D45 (Military T-34B), 35, 35R, A35, B35, C35, D35, E35, F35, G35, 19A, 23, A23, A23A, A24, A24R, B19, B23, B24R, C23, and C24R.
Rogers, Burl A. | 15AC and S15AC.
SOCATA—Groupe Aerospatiale | MS 885, MS 892A-150, MS 892E-150, MS 893A, MS 893E, Rallye 150 ST, Rallye 150 T, TB 10, TB 20, and TB 9.
Tiger Aircraft LLC | AA-1, AA-1A, AA-1B, AA-1C, AA-5, AA-5A, and AA-5B.

What Is the Unsafe Condition Presented in This AD?

(d) This AD is the result of several reports of pump chamber failure. The actions specified in this AD are intended to correct problems with the vacuum pump before failure or malfunction during instrument flight rules (IFR) flight that can lead to loss of flight instruments critical for flight. The loss of flight instruments could cause pilot disorientation and loss of control of the aircraft.

What Must I Do To Address This Problem?

(e) To address this problem, you must do the following:

Actions | Compliance | Procedures
(1) Remove any Aero Advantage ADV200 series (P/Ns ADVPL211CC and ADVPL212CW) vacuum pump, and the related monitor system and placard | Within 100 hours time-in-service (TIS) or the next 12 calendar months after the effective date of this AD, whichever occurs first, unless already done | Not Applicable.
(2) Remove the airplane flight manual supplement for any Aero Advantage ADV200 series (P/Ns ADVPL211CC and ADVPL212CW) vacuum pump and monitor system from the FAA-approved airplane flight manual (AFM) (i) The owner/operator holding at least a private pilot certificate as authorized by section 43.7 of the Federal Aviation Regulations (14 CFR 43.7) may do the flight manual changes requirement of this AD (ii) Make an entry in the aircraft records showing compliance with this portion of the AD following section 43.9 of the Federal Aviation Regulations (14 CFR 43.9) | As of the removal of any vacuum pump per paragraph (e)(1) of this AD | Not Applicable.
(3) Install an FAA-approved vacuum pump other than the affected part numbers | Before further flight after removing any Aero Advantage ADV200 series (P/Ns ADVPL211CC or ADVPL212CW) vacuum pump per paragraph (e)(1) of this AD | Not Applicable.
(4) Do not install any Aero Advantage ADV200 series (P/Ns ADVPL211CC and ADVPL212CW) vacuum pump | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Special Certification Office, Rotorcraft Directorate, FAA. For information on any already approved alternative methods of compliance, contact Peter Hakala, Aerospace Engineer, Special Certification Office, Rotorcraft Directorate, FAA, 2601 Meacham Boulevard, Fort Worth, Texas 76193-0190; telephone: (817) 222-5145; facsimile: (817) 222-5785.

May I Get Copies of the Documents Referenced in This AD?

(g) To view the AD docket, go to the Docket Management Facility; U.S. Department of Transportation, 400 Seventh Street, SW., Nassif Building, Room PL-401, Washington, DC, or on the Internet at http://dms.dot.gov. The docket number is Docket No. FAA-2005-20440; Directorate Identifier 2005-CE-05-AD.

Issued in Kansas City, Missouri, on May 4, 2005.
Kim Smith,
Acting Manager, Small Airplane Directorate, Aircraft Certification Service.

[FR Doc. 05-9366 Filed 5-10-05; 8:45 am]

BILLING CODE 4910-13-P